ENVIRONMENTAL PROTECTION AGENCY

[FRL-9934-01-Region 9]

Mobile Smelting Removal Site, Samoa, CA; Notice of Proposed CERCLA Settlement Agreement for Recovery of Past Response Costs

AGENCY: Environmental Protection Agency (EPA).

ACTION: Notice; request for comment.

SUMMARY: In accordance with Section 122(i) of the Comprehensive Environmental Response, Compensation and Liability Act of 1980, as amended (CERCLA), 42 U.S.C. 9622(i), notice is hereby given of a proposed administrative settlement with nine settling parties for recovery of response costs concerning the Mobile Smelting Removal Site in Mojave, California. The settlement is entered into pursuant to Section 122(h)(1) of CERCLA, 42 U.S.C. 9622(h)(1), and it requires the settling parties to reimburse EPA $72,830.77 in response costs that EPA incurred at the site. The settlement includes a covenant not to sue the settling parties pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

DATES: Pursuant to Section 122(i) of CERCLA, EPA will receive written comments relating to this proposed settlement until October 16, 2015.

ADDRESSES: The proposed settlement is available for public inspection at EPA Region IX, 75 Hawthorne Street, San Francisco, California. A copy of the proposed settlement may be obtained from J. Andrew Helmlinger, EPA Region IX, 75 Hawthorne Street, ORC-3, San Francisco, CA 94105, telephone number 415-972-3904. Comments should reference the Mobile Smelting Removal Site, Mojave, California and should be addressed to Mr. Helmlinger at the above address.

FOR FURTHER INFORMATION CONTACT: J. Andrew Helmlinger, Assistant Regional Counsel (ORC-3), Office of Regional Counsel, U.S. EPA Region IX, 75 Hawthorne Street, San Francisco, CA 94105; phone: (415) 972-3904; fax: (417) 947-3570; email: helmlinger.andrew@epa.gov.

SUPPLEMENTARY INFORMATION: Parties to the Proposed Settlement: Alpert & Alpert Iron and Metal; BNSF Railway Co.; City of Burbank; City of Glendale; City of Pasadena; Los Angeles Dept. of Power and Water; Sacramento Municipal Utility District; Southern California Edison; and, THUMS Long Beach Co.

Dated: September 3, 2015.
Enrique Manzanilla,
Director, Superfund Division, U.S. EPA, Region IX.

[FR Doc. 2015-23172 Filed 9-15-15; 8:45 am]

BILLING CODE 6560-50-P